ENVIRONMENTAL PROTECTION AGENCY

[EPA-HQ-OPP-2014-0737; FRL-9917-55]

Benefits of Neonicotinoid Seed Treatments to Soybean Production; Notice of Availability

AGENCY: Environmental Protection Agency (EPA).

ACTION: Notice.

SUMMARY: This notice announces the availability of EPA's Benefits of Neonicotinoid Seed Treatments to Soybean Production document, and opens a public comment period on that document. The Agency has conducted this assessment as part of its ongoing re-evaluation of clothianidin, imidacloprid, and thiamethoxam under the registration review program. Registration review is EPA's periodic review of pesticide registrations to ensure that each pesticide continues to satisfy the statutory standard for registration, that is, that the pesticide can perform its intended function without causing unreasonable adverse effects on human health or the environment. Through this program, EPA considers both potential risks and benefits of pesticides. This assessment examines the use of clothianidin, imidacloprid, and thiamethoxam seed treatments in terms of the extent of use and the pests targeted in order to characterize overall benefits to soybean production nationwide.

DATES: Comments must be received on or before December 22, 2014.

ADDRESSES: Submit your comments, identified by docket identification (ID) number EPA-HQ-OPP-2014-0737, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For pesticide specific information, contact: Carissa Cyran, Pesticide Re-Evaluation Division (7508P), Office of Pesticide Programs, Environmental Protection Agency, 1200 Pennsylvania Ave. NW., Washington, DC 20460-0001; telephone number: (703) 347-8781; email address: cyran.carissa@epa.gov.

For general information on the registration review program, contact: Richard Dumas, Pesticide Re-Evaluation Division (7508P), Office of Pesticide Programs, Environmental Protection Agency, 1200 Pennsylvania Ave. NW., Washington, DC 20460-0001; telephone number: (703) 308-8015; email address: dumas.richard@epa.gov.

SUPPLEMENTARY INFORMATION:

I. General Information

A. Does this action apply to me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the pesticide specific contact person.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

As directed by section 3(g) of the Federal Insecticide, Fungicide, and Rodenticide Act (FIFRA), EPA is reviewing the pesticide registrations for clothianidin, imidacloprid, and thiamethoxam to ensure that they continue to satisfy the FIFRA standard for registration—that is, that clothianidin, imidacloprid, and thiamethoxam can still be used without unreasonable adverse effects on human health or the environment. Clothianidin, imidacloprid, and thiamethoxam are systemic neonicotinoid nitroguanidine insecticides registered for a variety of uses including on food-crops, non-food crops, ornamentals, seed treatments, structures (indoor and outdoor), and turf.

Pursuant to 40 CFR 155.53(c), EPA is providing an opportunity, through this notice of availability, for interested parties to provide comments and input concerning the Agency's assessment of benefits of neonicotinoid seed treatments to soybean production. Such comments and input could address, among other things, the Agency's assessment methodologies and assumptions, as applied to this assessment. The Agency will consider all comments received during the public comment period.

1. Other related information. Additional information on clothianidin, imidacloprid, and thiamethoxam is available on the Pesticide Registration Review Status Web page, http://www.epa.gov/oppsrrd1/registration_review/reg_review_status.htm. Information on the Agency's registration review program and its implementing regulation is available at http://www2.epa.gov/pesticide-reevaluation.

2. Information submission requirements. Anyone may submit data or information in response to this document. To be considered during a pesticide's registration review, the submitted data or information must meet the following requirements:

• To ensure that EPA will consider data or information submitted, interested persons must submit the data or information during the comment period. The Agency may, at its discretion, consider data or information submitted at a later date.

• The data or information submitted must be presented in a legible and useable form. For example, an English translation must accompany any material that is not in English and a written transcript must accompany any information submitted as an audiographic or videographic record. Written material may be submitted in paper or electronic form.

• Submitters must clearly identify the source of any submitted data or information.

• Submitters may request the Agency to reconsider data or information that the Agency rejected in a previous review. However, submitters must explain why they believe the Agency should reconsider the data or information in the pesticide's registration review.

Authority: 7 U.S.C. 136 et seq.

Dated: October 8, 2014.
Richard P. Keigwin, Jr.,
Director, Pesticide Re-Evaluation Division, Office of Pesticide Programs.

[FR Doc. 2014-24968 Filed 10-21-14; 8:45 am]

BILLING CODE 6560-50-P